DEPARTMENT OF VETERANS AFFAIRS

[OMB Control No. 2900-0740]

Agency Information Collection Activity Under OMB Review: Request for Substitution of Claimant Upon Death of Claimant

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before October 4, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0740” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0000” in any correspondence.

SUPPLEMENTARY INFORMATION:

Authority: 38 U.S.C. 5121(a).

Title: Request for Substitution of Claimant Upon Death of Claimant.

OMB Control Number: 2900-0740.

Abstract: The Department of Veterans Affairs (VA), through its Veterans Benefits Administration (VBA), administers an integrated program of benefits and services established by law for veterans, service personnel, and their dependents and/or beneficiaries. Information requested by this form is authorized under the authority of 38 U.S.C. 5121A, Payment of Certain Accrued Benefits Upon Death of a Beneficiary. VA Form 21P-0847, Application for Request to Substitute Claimant, will be used to allow claimants to request substitution for a claimant who passed away prior to VA processing a claim to completion. This is only allowed when a claimant dies while a claim or appeal for any benefit under a law administered by the VA is pending. The substitute claimant would be eligible to receive accrued benefits due a deceased claimant under Section 5121(a). The substitute claim must be filed no later than one year after the date of the death of the claimant. By law, VA must have a claimant's or beneficiary's written permission (an “authorization”) to be a substitute claimant. The claimant or beneficiary may revoke the authorization at any time, except if VA has already acted based on the permission.

An agency may not conduct or sponsor, and a person is not required to respond to a collection of information unless it displays a currently valid OMB control number. The Federal Register Notice with a 60-day comment period soliciting comments on this collection of information was published at 83 FR 30226 on June 27, 2018, pages 30226 and 30227.

Affected Public: Individuals and households.

Estimated Annual Burden: 1,667 hours.

Estimated Average Burden per Respondent: 5 minutes.

Frequency of Response: Once.

Estimated Number of Respondents: 20,000.

By direction of the Secretary.
Cynthia D. Harvey-Pryor,
Department Clearance Officer, Office of Quality, Privacy and Risk, Department of Veterans Affairs.

[FR Doc. 2018-19038 Filed 8-31-18; 8:45 am]

BILLING CODE 8320-01-P